DEPARTMENT OF THE INTERIOR

National Park Service

[NPS-WASO-NRNHL-19771; PPWOCRADI0, PCU00RP14.R50000]

National Register of Historic Places; Notification of Pending Nominations and Related Actions

AGENCY: National Park Service, Interior.

ACTION: Notice.

SUMMARY: The National Park Service is soliciting comments on the significance of properties nominated before November 7, 2015, for listing or related actions in the National Register of Historic Places.

DATES: Comments should be submitted by December 15, 2015.

ADDRESSES: Comments may be sent via U.S. Postal Service to the National Register of Historic Places, National Park Service, 1849 C St. NW., MS 2280, Washington, DC 20240; by all other carriers, National Register of Historic Places, National Park Service, 1201 Eye St. NW., 8th Floor, Washington, DC 20005; or by fax, 202-371-6447.

SUPPLEMENTARY INFORMATION: The properties listed in this notice are being considered for listing or related actions in the National Register of Historic Places. Nominations for their consideration were received by the National Park Service before November 7, 2015. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

California

Los Angeles County

Lincoln Place Apartments, Lake & Penmar Aves., Frederick St. & Alley to S., Los Angeles, 15000911

Tank Site, The, Address Restricted, Topanga Canyon, 15000912

Napa County

Chateau Pacheteau, 1670 Diamond Mountain Rd., Calistoga, 15000913

Santa Cruz County

Headquarters Administration Building, (National-State Cooperative Program and the CCC in California State Parks MPS) 21600 Big Basin Way, Boulder Creek, 15000914

Iowa

Madison County

Winterset Courthouse Square Commercial Historic District, Roughly bounded by Green & 2nd Sts., 2nd Ave. & alley S. of Court Ave., Winterset, 15000915

Muscatine County

West Liberty Fairgrounds Historic District, 101 N. Clay St., West Liberty, 15000916

Polk County

American Republic Insurance Company Headquarters Building, 601 6th Ave., Des Moines, 15000917

Harbach, L. and Sons Furniture Warehouse and Factory Complex, 300-316 SW. 5th St., Des Moines, 15000918

New Hampshire

Hillsborough County

Nashua Gummed and Coated Paper Company Historic District, 34, 44, 55 Franklin & 21, 25 30 Front Sts., Nashua, 15000919

New Jersey

Hudson County

Butler Brothers Warehouse, (Terminal Distribution Warehouses of Hudson County, New Jersey MPS) 344-350 Warren St., Jersey City, 15000920

Merchant's Refrigerating Company Warehouse, (Terminal Distribution Warehouses of Hudson County, New Jersey MPS) 124-142 1st St., Jersey City, 15000921

New York

Niagara County

Mount St. Mary's Hospital, 515 6th St., Niagara Falls, 15000922

Onondaga County

Shepard Family Houses, 28 W. Genesee & 6 Hannum Sts., Skaneateles, 15000923

Saratoga County

Beecher, Eli and Diadama, House, 2 Military Rd., Edinburg, 15000924

Virginia

Hanover County

Virginia Industrial Home School for Colored Girls, 11391 Barrett Center Rd., Mechanicsville, 15000926

Nelson County

Rock Cliff, 12615 Norwood Rd., Wingina, 15000927

Wyoming

Johnson County

Wold Bison Jump, Address Restricted, Barnum, 15000928

Sweetwater County

Saints Cyril and Methodius Catholic Church and Rectory, 633 Bridger Ave., Rock Springs, 15000929

In the interest of preservation, a request for removal/re-listing has been received for the following resource:

Puerto Rico

Arecibo County

National Astronomy and Ionosphere Center, Esperanza Ward, San Rafael Sector, Rd. 625, Arecibo, 07000525

Authority: 36 CFR 60.13.

Dated: November 12, 2015.
J. Paul Loether,
Chief, National Register of Historic Places/National Historic Landmarks Program.

[FR Doc. 2015-30254 Filed 11-27-15; 8:45 am]

BILLING CODE 4312-51-P